DEPARTMENT OF JUSTICE

Certification of the Attorney General; Panola County, Mississippi

In accordance with Section 8 of the Voting Rights Act, 42 U.S.C. 1973f, I hereby certify that in my judgment the appointment of federal observers is necessary to enforce the guarantees of the Fourteenth and Fifteenth Amendments of the Constitution of the United States in Panola County, Mississippi. This county is included within the scope of the determinations of the Attorney General and the Director of the Census made under Section 4(b) of the Voting Rights Act, 42 U.S.C. 1973b(b), and published in the Federal Register on August 7, 1965. See 30 FR 9897).

Dated: July 22, 2011.
Eric H. Holder Jr.,
Attorney General of the United States.

[FR Doc. 2011-19033 Filed 7-27-11; 8:45 am]

BILLING CODE 4410-13-P